Title 3—

The President

Proclamation 8763 of December 2, 2011

International Day of Persons With Disabilities, 2011

By the President of the United States of America

A Proclamation

On International Day of Persons with Disabilities, we recommit to ensuring people living with disabilities enjoy full equality and unhindered participation in all facets of our national life. We recognize the myriad contributions that persons with disabilities make at home and abroad, and we remember that disability rights are universal rights to be recognized and promoted around the world.

For decades, America has been a global leader in advancing the rights of people with disabilities. From the Americans with Disabilities Act of 1990 to the Twenty-First Century Communications and Video Accessibility Act, which I signed last year, we have striven to bring the American dream and comprehensive opportunities in education, health care, and employment within reach for every individual. These actions—made possible only through the tireless and ongoing efforts of the disability community—affirm our commitment to an equitable and just society where every American can play a part in securing a prosperous future for our Nation.

To fulfill this promise not only in America, but around the world, my Administration is putting disability rights at the heart of our Nation’s foreign policy. With leadership from the Department of State and the United States Agency for International Development, we are collaborating across governments and in close consultation with the global disability community to expand access to education, health care, HIV/AIDS prevention and treatment, and other development programs. In 2009, we signed the Convention on the Rights of Persons with Disabilities, which seeks to ensure persons with disabilities enjoy the same rights and opportunities as all people. If ratified, the Convention would provide a platform to encourage other countries to join and implement the Convention, laying a foundation for enhanced benefits and greater protections for the millions of Americans with disabilities who spend time abroad.

We know from the historic struggle for disability rights in the United States that disability inclusion is an ongoing effort, and many challenges remain in securing fundamental human rights for all persons with disabilities around the world. On International Day of Persons with Disabilities, we press forward, renewing our dedication to embrace diversity, end discrimination, remove barriers, and uphold the rights, dignity, and equal opportunity of all people.

NOW, THEREFORE, I, BARACK OBAMA, President of the United States of America, by virtue of the authority vested in me by the Constitution and the laws of the United States, do hereby proclaim December 3, 2011, as International Day of Persons with Disabilities. I call on all Americans to observe this day with appropriate ceremonies, activities, and programs.

IN WITNESS WHEREOF, I have hereunto set my hand this second day of December, in the year of our Lord two thousand eleven, and of the Independence of the United States of America the two hundred and thirty-sixth.

[FR Doc. 2011-31620

Filed 12-7-11; 8:45 am]

Billing code 3295-F2-P